DEPARTMENT OF AGRICULTURE

Grain Inspection, Packers and Stockyards Administration (GIPSA)

Opportunity for Designation in Cairo, IL Area; Request for Comments on the Official Agency Servicing This Area.

AGENCY: Grain Inspection, Packers and Stockyards Administration, USDA.

ACTION: Notice.

SUMMARY: The designation of the official agency listed below will end on September 30, 2016. We are asking persons or governmental agencies interested in providing official services in the areas presently served by this agency to submit an application for designation. In addition, we are asking for comments on the quality of services provided by the following designated agency: Cairo Grain Inspection Agency, Inc. (Cairo).

DATES: Applications and comments must be received by September 23, 2016.

ADDRESSES: Submit applications and comments concerning this Notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Submit Comments Using the Internet: Go to Regulations.gov (http://www.regulations.gov). Instructions for submitting and reading comments are detailed on the site.

• Mail, Courier or Hand Delivery: Mark Wooden, Compliance Officer, USDA, GIPSA, FGIS, QACD, 10383 North Ambassador Drive, Kansas City, MO 64153.

• Fax: Mark Wooden, 816-872-1257.

• Email: FGIS.QACD@usda.gov.

Read Applications and Comments: All applications and comments will be available for public inspection at the office above during regular business hours (7 CFR 1.27(c)).

FOR FURTHER INFORMATION CONTACT: Mark Wooden, 816-659-8413 or FGIS.QACD@usda.gov.

SUPPLEMENTARY INFORMATION: Section 79(f) of the United States Grain Standards Act (USGSA) authorizes the Secretary to designate a qualified applicant to provide official services in a specified area after determining that the applicant is better able than any other applicant to provide such official services (7 U.S.C. 79(f)). Under section 79(g) of the USGSA, designations of official agencies are effective for no longer than five years, unless terminated by the Secretary, and may be renewed according to the criteria and procedures prescribed in section 79(f) of the USGSA.

Areas Open for Designation

Cairo

Pursuant to Section 79(f)(2) of the United States Grain Standards Act, the following geographic areas, in the States of Illinois, Kentucky, and Tennessee, are assigned to this official agency.

In Illinois

Alexander, Jackson County (south of State Route 3, State Route 149, and State Route 13; west of U.S. Route 51), Johnson, Hardin, Massac, Pope, Pulaski, Randolph County (south of State Route 150 and south of State Route 3), and Union Counties.

In Kentucky

Ballard, Calloway, Carlisle, Fulton, Graves, Hickman, Livingston, Lyon, Marshall, McCracken, and Trigg Counties.

In Tennessee

Benton, Dickson, Henry, Houston, Humphreys, Lake, Montgomery, Obion, Stewart, and Weakley Counties.

The following grain elevator is not part of this geographic area assignment and is assigned to Midsouth Grain Inspection Service: Cargill, Inc., Tiptonville, Lake County, Tennessee.

Opportunity for Designation

Interested persons or governmental agencies may apply for designation to provide official services in the geographic areas specified above under the provisions of section 79(f) of the USGSA and 7 CFR 800.196. Designation in the specified geographic areas in the States of Illinois, Kentucky, and Tennessee is for the period beginning October 1, 2016, to September 30, 2021. To apply for designation or to request more information, contact Mark Wooden at the address listed above.

Request for Comments

We are publishing this Notice to provide interested persons the opportunity to comment on the quality of services provided by the Cairo official agency. In the designation process, we are particularly interested in receiving comments citing reasons and pertinent data supporting or objecting to the designation of the applicant. Submit all comments to Mark Wooden at the above address or at http://www.regulations.gov.

We consider applications, comments, and other available information when determining which applicants will be designated.

Authority: 7 U.S.C. 71-87k.

Larry Mitchell,
Administrator, Grain Inspection, Packers and Stockyards Administration.

[FR Doc. 2016-20170 Filed 8-23-16; 8:45 am]

BILLING CODE 3410-KD-P